DEPARTMENT OF JUSTICE

Revised Notice of Lodging of Proposed Consent Decree Second Modification Under the Clean Water Act

On April 1, 2016, the Department of Justice lodged a proposed Consent Decree Second Modification with the United States District Court for the District of New Hampshire in the lawsuit entitled United States, State of New Hampshire, and Conservation Law Foundation v. City of Portsmouth, NH, Civil Action No. 09-cv-283-PB.

The Consent Decree Second Modification is a modification to the 2009 Clean Water Act Consent Decree that was entered into by the United States, State of New Hampshire, and the City. This Consent Decree Second Modification, signed by the original parties and intervenor-plaintiff Conservation Law Foundation, revises Portsmouth's schedule for constructing secondary wastewater treatment facilities that had been set forth in a 2013 Consent Decree Modification. The Consent Decree Second Modification also establishes enhanced reporting obligations and mitigation requirements designed to counter the harm to the Piscataqua River and Great Bay estuary caused by delayed implementation of secondary treatment.

The publication of this revised notice extends the period for public comment on the Consent Decree Second Modification. All comments must be submitted no later than thirty (30) days after the publication date of this revised notice. Comments should be addressed to the Assistant Attorney General, Environment and Natural Resources Division, and should refer to United States, State of New Hampshire, and Conservation Law Foundation v. City of Portsmouth, NH, D.J. Ref. No. 90-5-1-1-09308. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree Second Modification may be examined and downloaded at this Justice Department Web site: https://www.justice.gov/enrd/consent-decrees. We will provide a paper copy of the Consent Decree Second Modification upon written request and payment of reproduction costs. Please mail your request and payment to: Consent Decree Library, U.S. DOJ—ENRD, P.O. Box 7611, Washington, DC 20044-7611.

Please enclose a check or money order for $4.00 (25 cents per page reproduction cost) payable to the United States Treasury.

Jeffrey K. Sands,
Assistant Section Chief, Environmental Enforcement Section, Environment and Natural Resources Division.

[FR Doc. 2016-10104 Filed 4-28-16; 8:45 am]

BILLING CODE 4410-15-P